NATIONAL SCIENCE FOUNDATION

STEM Education Advisory Panel; Notice of Meeting

In accordance with the Federal Advisory Committee Act (Pub. L. 92-463, as amended), the National Science Foundation (NSF) announces the following meeting:

Name and Committee Code: STEM Education Advisory Panel (#2624).

Date and Time:

September 29, 2022; 10:00 a.m.-5:30 p.m. (EDT)

September 30, 2022; 10:00 a.m.-3:00 p.m. (EDT)

Place: National Science Foundation, 2415 Eisenhower Avenue, Alexandria, VA 22314/Virtual.

All visitors must register at least 48 hours before the meeting. To attend this meeting in listen-in only mode, send your request to stemedadvisory@nsf.gov. The final meeting agenda will be posted to: https://www.nsf.gov/ehr/advisory.jsp.

Type of Meeting: Part-Open.

Contact Person: Keaven Stevenson, Directorate Administrative Coordinator, Room C 11044, National Science Foundation, 2415 Eisenhower Avenue, Alexandria, VA 22314; Contact Information: 703-292-8663/kstevens@nsf.gov.

Purpose of Meeting: To provide advice and recommendations to the Committee on Science, Technology, Engineering, and Mathematics Education (CoSTEM).

Agenda: STEM Education Advisory Panel agenda attached. Please check the website for any additional updates prior to the meeting at https://nsf.gov/ehr/STEMEdAdvisory.jsp.

Reason for Closing: During closed portions of this meeting the panel will review and discuss a draft government report. This discussion must be kept confidential. These matters are exempt under 5 U.S.C. 552b(c), (9)(B) of the Government in the Sunshine Act.

Dated: August 24, 2022.
Crystal Robinson,
Committee Management Officer.

STEM Education Advisory Panel

September 29-30, 2022

Agenda

Thursday, September 29, 2022 (All Times are EDT)

10:00 a.m.-10:30 a.m. Welcoming Remarks

10:30 a.m.-11:30 a.m. Equitable Data Working Group

11:30 a.m.-11:45 a.m. Break

11:45 a.m.-2:05 p.m. Executive Session (Closed)

2:05 p.m.-2:20 p.m. Break

2:20 p.m.-5:30 p.m. Executive Session (Closed)

Friday, September 30, 2022 (All Times are EDT)

10:00 a.m.-10:15 a.m. Welcoming Remarks

10:15 a.m.-11:00 a.m. Discussion with CoSTEM Leadership

11:00 a.m.-11:45 a.m. FC-STEM/IWG Updates

11:45 a.m.-12:00 p.m. Break

12:00 p.m.-1:15 p.m. Other NSTC/CoSTEM Efforts

1:15 p.m.-1:45 p.m. Update on next CoSTEM Strategic Plan

1:45 p.m.-2:00 p.m. Break

2:00 p.m.-3:00 p.m. Closing Remarks

[FR Doc. 2022-18510 Filed 8-26-22; 8:45 am]

BILLING CODE 7555-01-P